FEDERAL COMMUNICATIONS COMMISSION

47 CFR Part 73

[DA 01-1260, MM Docket No. 01-49, RM-10032]

Digital Television Broadcast Service; Atlantic City, NJ

AGENCY: Federal Communications Commission.

ACTION: Final rule.

SUMMARY: The Commission, at the request of Lenfest Broadcasting, LLC, licensee of station WWAC-TV, substitutes DTV channel 44 for DTV channel 50 at Atlantic City, New Jersey. See 66 FR 12750, February 28, 2001. DTV channel 44 can be allotted to Atlantic City in compliance with the principle community coverage requirements of Section 73.625(a) at reference coordinates (39-55-06 N. and 75-02-44 W.) with a power of 200, HAAT of 208 meters and with a DTV service population of 4890 thousand.

With this action, this proceeding is terminated.

DATES: Effective July 9, 2001.

FOR FURTHER INFORMATION CONTACT: Pam Blumenthal, Mass Media Bureau, (202) 418-1600.

SUPPLEMENTARY INFORMATION: This is a synopsis of the Commission's Report and Order, MM Docket No. 01-49, adopted May 23, 2001, and released May 25, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under New Jersey, is amended by removing DTV channel 50 and adding DTV channel 44 at Atlantic City.

Federal Communications Commission.
Barbara A. Kreisman,
Chief, Video Services Division, Mass Media Bureau.

[FR Doc. 01-13710 Filed 5-31-01; 8:45 am]

BILLING CODE 6712-01-U